FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011961-019.

Title: The Maritime Credit Agreement.

Parties: Maersk Line A/S; China Shipping Container Lines Co. Ltd.; Cosco Container Lines Company Limited; Hanjin Shipping Co., Ltd.; Independent Container Line Ltd.; Kawasaki Kisen Kaisha Ltd.; United Arab Shipping Company; Wallenius Wilhelmsen Logistics AS; and Zim Integrated Shipping Services, Ltd.

Filing Party: Wayne R. Rohde, Esq.; Cozen O'Connor; 1627 I Street NW., Suite 1100, Washington, DC 20036.

Synopsis: The amendment deletes Companhia Libra De Navegacao; Compania Sud American De Vapores, S.A.; Compania Libra de Navegacion Uruguay S.A.; Norasia Container Lines Limited and Dole Ocean Cargo Express as parties to the agreement. It also corrects the address of party United Arab Shipping Company.

Agreement No.: 012279-002.

Title: Hyundai Glovis/Grimaldi Space Charter Agreement.

Parties: Hyundai Glovis Co. Ltd. and Grimaldi Deep Sea S.p.A. and Grimaldi Euromed S.p.A. (acting as a single party).

Filing Party: Wayne R. Rohde, Esq.; Cozen O'Conner; 1627 I Street NW., Suite 1100, Washington, DC 20006-4007.

Synopsis: The amendment adds Grimaldi Euromed S.p.A. as a party to the agreement.

Agreement No.: 012349.

Title: CMA CGM/HLAG U.S.-West Med Slot Charter Agreement.

Parties: CMA CGM S.A. and Hapag-Lloyd Aktiengesellschaft.

Filing Party: Wayne R. Rohde, Esq.; Cozen O'Conner; 1627 I Street NW., Suite 1100, Washington, DC 20006-4007.

Synopsis: The Agreement would authorize CMA CGM to charter space to Hapag-Lloyd in the trade between the U.S. Atlantic Coast on the one hand, and France, Italy and Spain on the other hand.

By Order of the Federal Maritime Commission.
Dated: July 2, 2015.
Rachel E. Dickon,
Assistant Secretary.

[FR Doc. 2015-16714 Filed 7-7-15; 8:45 am]

BILLING CODE 6730-01-P